DEPARTMENT OF HOMELAND SECURITY

[Docket No. DHS-2022-0042]

Faith-Based Security Advisory Council

AGENCY: The Office of Partnership and Engagement (OPE), The Department of Homeland Security (DHS).

ACTION: Notice of charter renewal with amendments.

SUMMARY: This notice announces the renewal of the Faith-Based Security Advisory Council (FBSAC) for an additional two years and amendment of its charter.

FOR FURTHER INFORMATION CONTACT: Michael J. Miron at HSAC@hq.dhs.gov or at 202-891-2876.

SUPPLEMENTARY INFORMATION: The Faith-Based Security Advisory Council (FBSAC) charter is established under the authority of 6 U.S.C. 451. This discretionary committee is established in accordance with and operates under the provisions of the Federal Advisory Committee Act (FACA), 5 U.S.C., Appendix. The FBSAC is renewed for an additional two years and its charter has been amended.

Amendments to the charter include:

(1) The previous charter stated that there were 25 members. It is now amended to 30 members.

(2) All FBSAC members will now serve as Representative Members, except the Member from the Department of Justice or Federal Bureau of Investigation who is appointed as a non-voting ex officio member.

(3) The previous charter allowed for members to be drawn from seven government offices. This has been amended to only include one non-voting ex officio member to be appointed from the Department of Justice of Federal Bureau of Investigation.

(4) In compliance with Executive Order 14035 on Diversity, Equity, Inclusion & Accessibility in the Federal Workforce (herein referenced as DEIA), the amended charter will state:

In order for DHS to fully leverage broad-ranging experience and education, the Council must be diverse with regard to professional and technical expertise. DHS is committed to pursuing opportunities, consistent with applicable law, to compose a committee that reflects the diversity of the nation's people.

In addition to the aforementioned amendments, the renewed charter contains certain technical and organizational but non-substantive changes in terms of format and wording. For any questions regarding the amendments, please contact the individual in the FOR FURTHER INFORMATION CONTACT section.

Dated: July 26, 2022.
Michael J. Miron,
Committee Management Officer, Department of Homeland Security.

[FR Doc. 2022-16272 Filed 7-27-22; 8:45 am]

BILLING CODE 9112-FN-P